SECURITIES AND EXCHANGE COMMISSION

In the Matter of Friendly Energy Exploration, Public Media Works, Inc., VRDT Corp., and Zoro Mining Corp., File No. 500-1; Order of Suspension of Trading

November 5, 2015.

It appears to the Securities and Exchange Commission that there is a lack of current and accurate information concerning the securities of Friendly Energy Exploration (CIK No. 1120434), a revoked Nevada corporation with its principal place of business listed as Carson City, Nevada, with stock quoted on OTC Link (previously, “Pink Sheets”) operated by OTC Markets Group, Inc. (“OTC Link”) under the ticker symbol FEGR, because it has not filed any periodic reports since the period ended December 31, 2012. On December 16, 2014, the Division of Corporation Finance sent Friendly Energy Exploration a delinquency letter requesting compliance with their periodic filing obligations, but the letter was returned because of Friendly Energy Exploration's failure to maintain a valid address on file with the Commission, as required by Commission rules (Rule 301 of Regulation S-T, 17 CFR 232.301 and Section 5.4 of EDGAR Filer Manual).

It appears to the Securities and Exchange Commission that there is a lack of current and accurate information concerning the securities of Public Media Works, Inc. (CIK No. 1108730), a void Delaware corporation with its principal place of business listed as Los Angeles, California, with stock quoted on OTC Link under the ticker symbol PUBQQ, because it has not filed any periodic reports since the period ended November 30, 2012. On November 12, 2014, Public Media Works received a delinquency letter sent by the Division of Corporation Finance requesting compliance with their periodic filing obligations.

It appears to the Securities and Exchange Commission that there is a lack of current and accurate information concerning the securities of VRDT Corp. (CIK No. 1399480), a void Delaware corporation with its principal place of business listed as Rancho Cucamonga, California, with stock quoted on OTC Link under the ticker symbol VRDT, because it has not filed any periodic reports since the period ended December 31, 2012. On November 10, 2014, VRDT received a delinquency letter sent by the Division of Corporation Finance requesting compliance with their periodic filing obligations.

It appears to the Securities and Exchange Commission that there is a lack of current and accurate information concerning the securities of Zoro Mining Corp. (CIK No. 1329484), a revoked Nevada corporation with its principal place of business listed as Tucson, Arizona, with stock quoted on OTC Link under the ticker symbol ZORM, because it has not filed any periodic reports since the period ended January 31, 2013. On November 7, 2014, the Division of Corporate Finance sent Zoro Mining a delinquency letter requesting compliance with their periodic filing obligations, but the letter was returned because of Zoro Mining's failure to maintain a valid address on file with the Commission, as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 5, 2015, through 11:59 p.m. EST on November 18, 2015.

By the Commission.
Jill M. Peterson,
Assistant Secretary.

[FR Doc. 2015-28549 Filed 11-5-15; 11:15 am]

BILLING CODE 8011-01-P